DEPARTMENT OF COMMERCE

Submission for OMB Review; Comment Request

The Department of Commerce will submit to the Office of Management and Budget (OMB) for clearance the following proposal for collection of information under the provisions of the Paperwork Reduction Act (44 U.S.C. Chapter 35).

Agency: U.S. Census Bureau.

Title: Boundary and Annexation Survey (BAS).

Form Number(s): BAS 1, BAS 2, BAS 3, BAS 4, BAS 5, BAS 6, BAS-ARF1, and BAS-ARF2; 6 Respondent Guides; and 21 Letters.

Agency Approval Number: 0607-0151.

Type of Request: Revision of a currently approved collection.

Burden Hours: 145,750.

Number of Respondents: 34,000.

Average Hours per Response: 4 hours and 30 minutes.

Needs and Uses: The U.S. Census Bureau is requesting the clearance of forms to continue the Boundary and Annexation Survey (BAS). The BAS documents the following actions by governmental units:

—The creation of newly incorporated places and minor civil divisions (MCDs)

—The creation of new counties, and the addition of new federally recognized American Indian areas (AIAs) (American Indian Areas include reservations and/or off-reservation trust lands and tribal subdivisions)

—The dissolution of incorporated places and MCDs

—The changes in the boundaries of incorporated places, MCDs, counties, barrios, subbarrios, municipios, consolidated cities, and AIANNHAs (American Indian, Alaska Native, Native Hawaiian Areas include reservations and/or off-reservation trust lands and tribal subdivisions, Alaska Native Regional Corporations (ANRCs) and Hawaiian home lands).

The results of the BAS provide geographic information to support the following products and/or services:

—Decennial and economic censuses

—American Community Survey

—Population Estimates Program

—OMB Circular A-16 Responsibilities for:

—Geospatial One Stop E-GOV Initiative

—Federal Geographic Data Committee (FGDC) Responsibilities for:

—FGDC Subcommittee on Cultural and Demographic Data

—Boundaries

—U.S. Geological Survey (USGS) Initiative on The National Map

—Federal Information Processing Standards (FIPS) program

—Geographic Names Information Systems (GNIS) program

The BAS also fulfills the requirements specified in Title 13, United States Code, Section 6.

In past decades, the BAS mailing universe varied depending on the year. However, starting in 2008, the Census Bureau will include all governments in the universe to support the 2010 Decennial Census and the other programs mentioned above. To minimize time and cost, the BAS will mail only those governments with legal boundary changes and, will not be sent to governments with no changes.

We have revised and added to the option to submissions methods. The following information describes the methods that participants can use to respond to the BAS, including electronic response options as required by the E-government initiative:

Paper BAS

Participants are provided with paper maps and forms to update their boundary and geographic information. If the participant does not respond during Advance Response, they will automatically be enrolled in the traditional paper BAS method.

Web-BAS

Every year in January, participants will receive a user name and password. This password will be used to access a Web site through a web browser (such as, Internet Explorer, Netscape or Firefox). The Web-BAS site lets the user submit changes according to specific business rules and constraints set by the Census Bureau.

MAF/TIGER Partnership Software (MTPS)

MTPS is a PC-based software application for participants to update Census Bureau maps and forms, as well as local contact data. Participants receive a CD containing the software to install on their computer, one or more CD(s) containing the data for their entity and the surrounding area, and a user name and password to access the data in the software. Participants will be able to submit the map and form updates using this software. A CD writer is required to return the data.

Digital BAS

Digital BAS is designed to accept submissions from experienced geographic information system (GIS) users. Digital BAS participants modify spatial data provided by the Census Bureau to digitally submit boundary and feature updates. Participants must follow the same requirements that are part of Web-BAS and MTPS.

Visit the BAS Web site at http://www.census.gov/geo/www/bas/bashome.html for more information on each of these methods.

The data and information collected from the BAS serves Federal, State, local, and tribal governments, and the private sector. The BAS is the primary provider for the following services and products:

—Data collection for the decennial and economic censuses, and annual surveys

—Primary data of new municipal incorporations and disincorporations

—Legal boundary changes for governmental units

—Inventory for the FIPS and GNIS programs

—Updates of population estimates for governments including: The creation of new governments; the dissolution of governments; or changes in boundaries for local or tribal governments

—Legal boundary framework layer for the FGDC National Spatial Data Infrastructure, the USGS National Map, and the E-GOV Geospatial One Stop.

Affected Public: State, local or tribal government.

Frequency: Annually.

Respondent's Obligation: Voluntary.

Legal Authority: Title 13 U.S.C., Section 6.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax 202-395-7245 or e-mail bharrisk@omb.eop.gov.

Dated: June 18, 2007.
Gwellnar Banks,
Management Analyst, Office of the Chief Information Officer.

[FR Doc. E7-12210 Filed 6-22-07; 8:45 am]

BILLING CODE 3510-07-P